DEPARTMENT OF TRANSPORTATION

Federal Highway Administration

Environmental Impact Statement: Orange County, New York

AGENCY: Federal Highway Administration (FHWA), New York State Department of Transportation.

ACTION: Notice of intent.

SUMMARY: The FHWA is issuing this notice to advise the public that an environmental impact statement will be prepared for a proposed highway project in Orange County, New York.

FOR FURTHER INFORMATION CONTACT: Robert A. Dennison III, P.E., Regional Director; NYSDOT Region 8; Eleanor Roosevelt State Office Building; 4 Burnett Boulevard; Poughkeepsie, NY 12603; Telephone: (845) 431-5750.

or

Robert E. Arnold, Division Administrator, Federal Highway Administration, New York Division, Leo W. O'Brien Federal Building, Room 719, Clinton Avenue and North Pearl Street, Albany, New York 12207, Telephone: (518) 431-4127.

SUPPLEMENTARY INFORMATION: The FHWA, in cooperation with the New York State Department of Transportation (NYSDOT) will prepare an environmental impact statement (EIS) on a proposal to improve NYS Route 17 in Orange County, New York. The proposed improvement will center on the reconstruction and reconfiguration of the NYS Route 17 Exit 122 Interchange, within the Town of Wallkill, and associated improvements on existing Town and County roadways for a distance ranging from approximately 1.6 to 3.3 km (1.0 to 2.1 miles) depending upon the alternative implemented, including East Main Street (CR 67) and Crystal Run Road. This project is being progressed to address identified operational and safety problems, non-standard and non-conforming geometrics, and bridge structural needs.

Alternatives under consideration include a Null or No-Build Alternative (Alternative 1A) and two (2) build alternatives. The build alternatives have been identified as Exit 122 Reconfiguration with an East Main Street Extension (Alternative 2C) and Exit 122 Reconfiguration with Crystal Run Road Realigned but no Main Street Extension (Alternative 2E). Alternative Transportation Measures, including enhancing public transportation and implementing intelligent transportation systems and demand management strategies (Alternative 1B) will be considered as an integrated element of the feasible build alternatives. Also included with the feasible build alternatives, there will be further consideration and evaluation of the benefits and costs of adding an auxiliary lane on Route 17 westbound between Exit 121 and Exit 120 and/or improving the geometry of the I-84 westbound to Route 17 westbound ramp. Isolated improvements to nearby intersections may be included to improve operations on roadways within the project area. Incorporated into and studied with the various build alternatives will be design variations of grade and alignment.

Letters describing the proposed action and soliciting comments will be sent to appropriate Federal, State, and local agencies, and to private organizations and citizens who have previously expressed interest in this proposal. A series of public information meetings will be held in the Town of Wallkill between February 2002 and June 2003. In addition, a public hearing will be held. Public notice will be given of the time and place of the meetings and hearings. The draft EIS, when prepared, will be available for public and agency review and comment. A formal NEPA scoping meeting will be held at the Town of Wallkill Court Room, Town Hall 600 Route 211 East, Wallkill, New York 10940 on Monday February 11, 2002. At 3:30 PM a meeting will be held for Federal, State, and Local officials and at 7:00 PM a meeting for the general public and all interested parties. Each meeting will be preceded by a 30-minute open house during which attendees can view concept plans and interact with project team members.

To ensure that the full range of issues related to this proposed action are addressed and all significant issues identified, comments and suggestions are invited from all interested parties. Comments or questions concerning this proposed action and the EIS should be directed to the NYSDOT or FHWA at the addresses provided above.

(Catalog of Federal Domestic Assistance Program Number 20.205, Highway Research, Planning and Construction. The regulations implementing Executive Order 12372 regarding intergovernmental consultation on Federal programs and activities apply to this program.)

Authority: 23 U.S.C. 315; 23 CFR 771.123.

Issued on: January 15, 2002.
Douglas P. Conlan,
District Engineer, Federal Highway Administration, Albany, New York.

[FR Doc. 02-3253 Filed 2-8-02; 8:45 am]

BILLING CODE 4910-22-M